DEPARTMENT OF ENERGY

Federal Energy Regulatory Commission

Combined Notice of Filings #1

Take notice that the Commission received the following electric corporate filings:

Docket Numbers: EC19-120-001.

Applicants: Sun Jupiter Holdings LLC, El Paso Electric Company.

Description: Proposed Mitigation Options for Alternative Analysis Scenario of El Paso Electric Company, et al.

Filed Date: 4/15/20.

Accession Number: 20200415-5052.

Comments Due: 5 p.m. ET 5/6/20.

Take notice that the Commission received the following exempt wholesale generator filings:

Docket Numbers: EG20-113-000.

Applicants: Midlands Solar LLC.

Description: Self-Certification of EWG Status of Midlands Solar LLC.

Filed Date: 4/14/20.

Accession Number: 20200414-5155.

Comments Due: 5 p.m. ET 5/5/20.

Docket Numbers: EG20-114-000.

Applicants: Midlands Lessee LLC.

Description: Self-Certification of EWG status of Midlands Lessee LLC.

Filed Date: 4/14/20.

Accession Number: 20200414-5156.

Comments Due: 5 p.m. ET 5/5/20.

Take notice that the Commission received the following electric rate filings:

Docket Numbers: ER10-3285-003; ER10-3181-004; ER17-177-002; ER17-991-008.

Applicants: UGI Utilities Inc., UGI Development Company, UGI Energy Services, LLC, Hunlock Energy, LLC.

Description: Supplement to December 2, 2019 Updated Triennial Market Power Analysis for the Northeast Region and Notice of Non-Material Change in Status of the UGI MBR Companies, et al.

Filed Date: 3/25/20.

Accession Number: 20200325-5128.

Comments Due: 5 p.m. ET 4/27/20.

Docket Numbers: ER20-1214-000.

Applicants: CHPE, LLC.

Description: Supplement to March 9, 2020 Application for Authority to Sell Transmission Rights at Negotiated Rates of CHPE, LLC.

Filed Date: 4/15/20.

Accession Number: 20200415-5012.

Comments Due: 5 p.m. ET 4/20/20.

Docket Numbers: ER20-1023-001.

Applicants: Mankato Energy Center, LLC.

Description: Tariff Amendment: Amendment to Revised Market-Based Rate Tariff to be effective 1/17/2020.

Filed Date: 4/14/20.

Accession Number: 20200414-5149.

Comments Due: 5 p.m. ET 5/5/20.

Docket Numbers: ER20-1024-001.

Applicants: Mankato Energy Center II, LLC.

Description: Tariff Amendment: Amendment to Revised Market-Based Rate Tariff to be effective 1/17/2020.

Filed Date: 4/14/20.

Accession Number: 20200414-5150.

Comments Due: 5 p.m. ET 5/5/20.

Docket Numbers: ER20-1564-000.

Applicants: Northern Colorado Wind Energy Center, LLC.

Description: Baseline eTariff Filing: Northern Colorado Wind Energy Center, LLC Application for MBR Authority to be effective 6/14/2020.

Filed Date: 4/14/20.

Accession Number: 20200414-5132.

Comments Due: 5 p.m. ET 5/5/20.

Docket Numbers: ER20-1565-000.

Applicants: Southwest Power Pool, Inc.

Description: § 205(d) Rate Filing: 3244R1 City of Malden ? Board of Public Works NITSA NOA to be effective 4/1/2020.

Filed Date: 4/15/20.

Accession Number: 20200415-5014.

Comments Due: 5 p.m. ET 5/6/20.

Docket Numbers: ER20-1566-000.

Applicants: ITC Midwest LLC, Interstate Power and Light Company.

Description: § 205(d) Rate Filing: Update to O&T Agreement Exhibits and Appendices to be effective 6/15/2020.

Filed Date: 4/15/20.

Accession Number: 20200415-5015.

Comments Due: 5 p.m. ET 5/6/20.

Take notice that the Commission received the following electric securities filings:

Docket Numbers: ES20-24-000.

Applicants: Orange and Rockland Utilities, Inc.

Description: Application Under Section 204 of the Federal Power Act for Authorization to Issue Securities of Orange and Rockland Utilities, Inc.

Filed Date: 4/14/20.

Accession Number: 20200414-5148.

Comments Due: 5 p.m. ET 5/5/20.

Take notice that the Commission received the following public utility holding company filings:

Docket Numbers: PH20-8-000.

Applicants: Canada Pension Plan Investment Board.

Description: FERC 65B Notice of Non-Material Change in Facts of Canada Pension Plan Investment Board.

Filed Date: 4/15/20.

Accession Number: 20200415-5011.

Comments Due: 5 p.m. ET 5/6/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 15, 2020.
Nathaniel J. Davis, Sr.,
Deputy Secretary.

[FR Doc. 2020-08442 Filed 4-21-20; 8:45 am]

BILLING CODE 6717-01-P